FEDERAL COMMUNICATIONS COMMISSION

Notice of Public Information Collection(s) Being Reviewed by the Federal Communications Commission

March 22, 2004.

SUMMARY: The Federal Communications Commission, as part of its continuing effort to reduce paperwork burden invites the general public and other Federal agencies to take this opportunity to comment on the following information collection(s), as required by the Paperwork Reduction Act of 1995, Public Law No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 3, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-0894.

Title: Certification Letter Accounting for Receipt of Federal Support—CC Docket Nos. 96-45 and 96-262.

Form No: N/A.

Type of Review: Revision of a currently approved collection.

Respondents: State, local and tribal government.

Number of Respondents: 52.

Estimated Time Per Response: 3-5 hours.

Frequency of Response: On occasion and annual reporting requirements.

Total Annual Burden: 162 hours.

Total Annual Cost: N/A.

Needs and Uses: The Commission requires states to certify that carriers within the state had accounted for its receipt of federal support in its rates or otherwise used the support pursuant with Section 254(e). In the Order on Remand, in CC Docket No. 96-45, FCC 03-249, the Commission modified the high-cost universal service support mechanism for non-rural carriers and adopted measures to induce states to ensure reasonable comparability of rural and urban rates in areas served by non-rural carriers.

OMB Control No.: 3060-0950.

Title: Extending Wireless Telecommunications Services to Tribal Lands, WT Docket No. 99-266.

Form No: N/A.

Type of Review: Revision of a currently approved collection.

Respondents: Business or other for-profit, not-for-profit institutions, and state, local and tribal government.

Number of Respondents: 1,313.

Estimated Time Per Response: 10-180 hours.

Frequency of Response: On occasion reporting requirement and recordkeeping requirement.

Total Annual Burden: 262,600 hours.

Total Annual Cost: $47,268,000.

Needs and Uses: The Commission adopted a Second Report and Order in WT Docket No. 99-266, which extended the time period during which winning bidders can negotiate with relevant federally-recognized tribes to obtain the certification needed to obtain the bidding credit in a particular market from 90 days to 180 days. Further, the Second Report and Order clarified various administrative matters involved in implementing the bidding credit. The Commission believes that the lack of basic telecommunications services puts affected tribal communities at a social and economic disadvantage. This information will be used to ensure that tribal communities within federally-recognized tribal areas have access to wireless telecommunications services equivalent to that of the nation.

OMB Control No.: 3060-0999.

Title: Exemption of Public Mobile Service Phones from the Hearing Aid Compatibility Act.

Form No: N/A.

Type of Review: Revision of a currently approved collection.

Respondents: Business or other for-profit.

Number of Respondents: 965 respondents; 1,930 responses.

Estimated Time Per Response: 2-4 hours.

Frequency of Response: Annual, semi-annual, biennial reporting requirements and third party disclosure requirements.

Total Annual Burden: 16,299 hours.

Total Annual Cost: N/A.

Needs and Uses: The Commission modified the exemption of public mobile service phones from the requirements of the Hearing Aid Compatibility Act of 1988. The Report and Order in WT Docket No. 01-309, FCC 03-168, requires digital wireless phone manufacturers and service providers to make available a certain number of digital wireless phones that meet specific performance levels set forth in an established technical standard. The phones must be made available according to an implementation schedule specified in the Order. To monitor the progress of digital phone manufacturers and service providers must submit reports every six months during the first three years of implementation, and then annually thereafter through the fifth year of implementation.

Federal Communications Commission.
Marlene H. Dortch,
Secretary.

[FR Doc. 04-7374 Filed 3-31-04; 8:45 am]

BILLING CODE 6712-01-P